DEPARTMENT OF AGRICULTURE

Forest Service

Gila National Forest; New Mexico; Gila National Forest Travel Management Rule Implementation

AGENCY: Forest Service, USDA.

ACTION: Notice of Intent to prepare an Environmental Impact Statement.

SUMMARY: The Gila National Forest will prepare an Environmental Impact Statement to evaluate a proposed action that would implement the agency's Travel Management Rule (TMR). The proposed action would eliminate cross country travel by motorized vehicle and designate a system of roads, trails and areas open for motorized vehicle use. Motor vehicle access for purposes such as motor vehicle-based dispersed camping and big game retrieval of deer and elk are also described. The Rule provides for certain exemptions such as emergency use, law enforcement, those holding a specific written authorization, and limited Forest Service administrative use.

The full text and maps of the proposed action will located on the Forest's Web site at http://fs.usda.gov/gila (Click on the link to Travel Management Rule).

The designated routes and areas will be published on a Motor Vehicle Use Map (MVUM) available free of charge to the public in accordance with the Travel Management Rule. The MVUM will be the primary tool for compliance and enforcement.

DATES: Comments concerning the scope of the analysis must be received by October 26, 2009. The Draft Environmental Impact Statement is expected in May 2010 and the Final Environmental Impact Statement is expected September 2010.

ADDRESSES: Send written comments to Gila National Forest, Attn: Travel Management Coordinator, 3005 E. Camino del Bosque, Silver City, NM 88061. Comments may also be sent via e-mail to r3_gila_travel@fs.fed.us, or via facsimile to (575) 388-8222. Electronic attachments must be in one of the following formats: .doc, .rtf, .txt, or .pdf.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Lisa Mizuno, Travel Management Coordinator, at (575) 388-8267 or r3_gila_travel@fs.fed.us. The proposed action, maps, and other pertinent information about this project can be found on the Forest's Web site: http://fs.usda.gov/gila (click on link to Travel Management Rule).

Individuals who use telecommunication devices for the deaf (TDD) may call the Federal Information Relay Service (FIRS) at 1-800-877-8339 between 8 a.m. and 8 p.m., Eastern Time, Monday through Friday.

Purpose and Need for Action

There is a need to comply with 36 CFR 212.51(a) which requires the forest to designate a system of roads, trails and areas for vehicle use by vehicle class, and if appropriate by time of year.

• There is a need to manage motorized vehicle use on NFS lands on the Gila National Forest in accordance with the provisions of the Travel Management Rule and 36 CFR parts 212, 251, and 261.

• There is a need to comply with 36 CFR 261.13 which requires that forests prohibit motor vehicle use off the system of designated roads, trails and areas (close the forest to motorized cross-country travel).

• There is a need to amend the Forest Plan to comply with the Travel Management Rule.

Proposed Action

During 2009-2010, the Gila National Forest will evaluate the proposed action and alternative(s), with a decision expected in September 2010.

As required by TMR, the Forest utilized the following information in developing the proposed action: Public input on needs and desires; resource resilience and sensitive areas; traditional uses and forest access; and effects to natural resources. Maps and tables show the elements of the proposed action that is described below: Maps can be found at http://fs.usda.gov/gila (Click on link to Travel Management Rule).

The Forest proposes to:

• Close the Forest to motorized cross-country travel.

• Add 8.3 miles of unauthorized routes and designate as National Forest System (NFS) roads open to all vehicle types.

• Re-open 3 miles of NFS closed roads to all vehicle types.

• Change vehicle type on 31.5 miles of NFS roads to highway legal vehicles only. Highway legal vehicles are those motor vehicles licensed under State law for general operation on all public roads within the State.

• Change time of year on 2.8 miles of NFS roads to be designated seasonally open, for all vehicle types, from April 1 through September 1.

• Change the use on 275 miles of existing NFS roads from open to all motorized traffic to open for periodic administrative use or specific permitted uses only.

• Close 962 miles of open NFS roads to all motorized vehicle uses.

• Add 55 miles of unauthorized routes and designate as National Forest System (NFS) trails for motorized vehicles less than 50 inches in width.

• Convert 23 miles of NFS closed or decommissioned roads to NFS trails for motorized vehicles less than 50 inches in width.

• Convert 97 miles of NFS roads to NFS trails for motorized vehicles less than 50 inches in width.

• Convert 5 miles of NFS closed or decommissioned roads to NFS trails for foot/horse use.

• Convert 24 miles of NFS roads to NFS trails for foot/horse use.

• Change 1 mile of motorized NFS trail to foot/horse use.

• For the purpose of motorized dispersed camping, designate a specified distance of 300 feet on each side of:

○ 1,513 miles of designated open forest roads,

○ 1 mile of unauthorized roads, and

○ 6 miles of county roads.

• Designate a specified distance of 1 mile on each side of open forest roads, county roads, and State and Federal highways on Gila National Forest system lands for the purpose of motorized big game retrieval.

• Designate 113.5 acres open to all motorized vehicle use.

Methods and Descriptions

The above describes the elements of the proposed action. The following describes methods and definitions of components of the proposed action:

Converting Roads to Motorized or Non-Motorized Trails

The conversion of roads to motorized or non-motorized trails would entail such things as signing, restricting access based on type of trail designation, and using mechanical equipment to define or establish applicable tread width over the length.

Motorized Dispersed Camping

In the Gila National Forest, motorized dispersed camping is mostly characterized as vehicles towing travel trailers or other types of trailers and driving off of roads some distance and setting up camp. Activities or the make-up of the camp often centers around the vehicle or trailers. The TMR allows for the designation of motor vehicle use within specified distances of certain designated routes, solely for the purposes of dispersed camping (36 CFR 212.51(b)).

To continue this type of camping opportunity in the Forest, motor vehicles may be driven 300 feet off of each side of certain designated roads for purposes of motorized dispersed camping and would be displayed on the Motor Vehicle Use Map (MVUM). A total of 1,520 miles of Forest and County roads would be available for motorized dispersed camping.

Dispersed camping such as tent camping may occur anywhere on the Forest. Parking for this type of dispersed camping may occur along any designated open road. Parking would be limited to one vehicle length, including any towed trailer, from the side of the road. Parking should occur where it is safe to park (e.g. traffic), does not cause resource damage (e.g. ruts), or not already restricted.

Big Game Retrieval

The Forest proposes to designate a specified distance of 1 mile from each side of designated open roads, county roads, and State and Federal highways for the purpose of retrieving a downed big game animal, specifically limited to deer and elk. Hunters must possess a valid deer or elk license for game management units (GMU) 15, 16A, 16B, 16C, 16D, 21A, 22, 23, and 24.

Motorized big game retrieval only applies to those portions of GMU 15, 16A, 16B, 16C, 16D, 21A, 22, 23, and 24 that are within the Gila National Forest boundary. The use of motorized vehicles to retrieve a legally harvested and tagged deer or elk is limited to a distance of one mile either side of Forest open roads, county roads, and State and Federal highways. The distance of one mile applies only to Gila National Forest System lands. Motorized vehicles are prohibited where the one mile distance is within:

• National Forest Wilderness areas (36 CFR 261.18);

• National Forest Primitive areas (36 CFR 261.21);

• Restricted roads, trails, or areas specified in forest orders (36 CFR 261.50).

All applicable New Mexico big game hunting regulations must be followed. To protect forest resources on Forest designated open roads or off the designated road system (cross-country), applicable laws or regulations must be followed, such as:

• Roads should not be damaged and left in a damaged condition (36 CFR 261.12(c)).

• Retrieval of big game should take a relatively direct and safe route (R3 TMR Guidelines, June 2008).

• Motor vehicle use off road should not damage or unreasonably disturb the land, wildlife, or vegetative resources (36 CFR 261.15(h)).

• Use the minimum number of trips to retrieve a downed animal (R3 TMR Guidelines, June 2008).

• Only one vehicle would be allowed for game retrieval per harvested animal (R3 TMR Guidelines, June 2008).

• Motor vehicle use should not damage any natural feature or other property of the United States (36 CFR 261.9(a)).

Forest Plan Amendments

Two Forest Land Management Plan (LMP) amendments are needed to bring both the LMP up to date with current management of the Forest and to be in compliance with the Travel Management Rule and proposal. The following LMP amendments would be implemented:

1. The following site specific language found in Management Area (MA) 4B (pg. 131 and 139) and MA 4C (page 129) would be removed.

a. “Area above Mule Creek to remain open to all entry year-round.”

b. “Hells Hole will remain open to vehicle use, but because of topography, vehicle use will not occur in most portions of the area.”

Motorized vehicle designations would be detailed in the final TMR decision. In the proposed action, there is a proposed designated route above the Mule Creek area and no cross-country motor vehicle use is allowed. Hells Hole would be closed to cross-country motor vehicle use.

1. Amend the Gila National Forest LMP to add or remove language from the Recreation Standards and Guidelines related to the ORV Policy to be consistent with the Travel Management Rule. For more information on the full text, see the For Further Information section.

Lead and Cooperating Agencies

The U.S. Forest Service—Gila National Forest is the lead agency. Catron County, NM; Hidalgo County, NM; Grant County, NM; and Sierra County, NM are cooperating agencies.

Responsible Official

The Responsible Official is the Gila Forest Supervisor.

Nature of Decision To Be Made

The decision to be made is how to implement the Travel Management Rule. The responsible official will decide whether to implement the proposed action or an alternative to the proposed action. The decision to be made will also determine whether or not to implement two proposed Forest Plan amendments.

Scoping Process

This Notice of Intent initiates the scoping process, which guides the development of the Environmental Impact Statement. Ten open houses are planned for the purpose of providing information to the public regarding this proposed action and soliciting comments. Open houses are scheduled for September 19, 2009, 10 a.m.-4 p.m., Las Cruces, NM, location TBA; September 22, 2009, 3-8 p.m., Glenwood, NM, Glenwood School; September 23, 2009, 3-8 p.m., Mimbres, NM, location TBA; September 24, 2009, 3-8 p.m., Reserve, NM, Reserve Ranger District Office; September 25, 2009, 3-8 p.m., Cliff, NM, location TBA; September 26, 2009, 10 a.m.-5 p.m., Silver City, NM, County Convention Center; September 29, 2009, 3-8 p.m., Truth or Consequences, NM, Black Range District Office; October 1, 2009, 3-8 p.m., Luna, NM, Luna Community Center; October 2, 2009, 3-8 p.m., Quemado, NM, Quemado High School; October 3, 2009, 10 a.m-12 noon, Lordsburg, NM, location TBA. Information can also be obtained at the following Web site: http://fs.usda.gov/gila (Click on link to Travel Management Rule).

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: September 2, 2009.
Richard E. Markley,
Forest Supervisor.

[FR Doc. E9-21851 Filed 9-10-09; 8:45 am]

BILLING CODE P